DEPARTMENT OF THE TREASURY

Submission for OMB Review; Comment Request

May 18, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before June 25, 2009 to be assured of consideration.

Internal Revenue Service (IRS)

OMB Number: 1545-1806.

Type of Review: Revision.

Form: 8883.

Title: Asset Allocation Statement Under 338.

Description: Form 8883 is used to report information regarding transactions involving the deemed sale of corporate assets under section 338.

Respondents: Businesses or other for-profits.

Estimated Total Burden Hours: 4,881 hours.

OMB Number: 1545-1536.

Type of Review: Extension.

Title: Guidance Regarding Charitable Remainder Trusts and Special Valuation Rules for Transfer of Interests in Trusts REG-209823-96 (Final).

Description: The recordkeeping requirement in the regulation provides taxpayers with an alternative method for complying with Congressional intent regarding charitable remainder trusts. The recordkeeping alternative may be less burdensome for taxpayers.

Respondents: Businesses or other for-profits.

Estimated Total Burden Hours: 75 hours.

OMB Number: 1545-0132.

Type of Review: Extension.

Form: 1120-X.

Title: Amended U.S. Corporation Income Tax Return.

Description: Domestic corporations use Form 1120X to correct a previously filed Form 1120 or 1120A. The data is used to determine if the correct tax liability has been reported.

Respondents: Businesses or other for-profits.

Estimated Total Burden Hours: 300,582 hours.

OMB Number: 1545-1965.

Type of Review: Extension.

Title: REG-133446-03 (Final) Guidance on Passive Foreign Company (PFIC) Purging Elections.

Description: The IRS needs the information to substantiate the taxpayer's computation of the taxpayer's share of the PFIC's post-1986 earning and profits.

Respondents: Individuals or Households.

Estimated Total Burden Hours: 250 hours.

Clearance Officer: R. Joseph Durbala (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-12131 Filed 5-22-09; 8:45 am]

BILLING CODE 4830-01-P